DEPARTMENT OF DEFENSE

Office of the Secretary

Defense Policy Board: Notice of Federal Advisory Committee Meeting

AGENCY: Under Secretary of Defense for Policy, Department of Defense (DoD).

ACTION: Notice of Federal Advisory Committee meeting.

SUMMARY: The DoD is publishing this notice to announce the following Federal Advisory Committee meeting of the Defense Policy Board (DPB) will take place.

DATES:

Closed to the public; Tuesday, September 6, 2022, from 8:30 a.m. to 6 p.m.

Closed to the public; Wednesday, September 7, 2022 from 8:30 a.m. to 4:30 p.m.

ADDRESSES: The closed meetings will be held at The Pentagon, 2000 Defense Pentagon, Washington, DC 20301-2000.

FOR FURTHER INFORMATION CONTACT: Ms. Stacee Bako, (703) 571-9234 (Voice), 703-697-8606 (Facsimile), osd.pentagon.rsrcmgmt.list.ousd-policy-defense-board-mbx@mail.mil (Email). Mailing address is 2000 Defense Pentagon, Washington, DC 20301-2000.

SUPPLEMENTARY INFORMATION: This meeting is being held under the provisions of the Federal Advisory Committee Act (FACA) (5 U.S.C., app.), the Government in the Sunshine Act (“the Sunshine Act”) (5 U.S.C. 552b), and title 41 Code of Federal Regulations (CFR), sections 102-3.140 and 102-3.150.

Due to circumstances beyond the control of the Designated Federal Officer (DFO), the DPB was unable to provide public notification required by 41 CFR 102-3.150(a) concerning its September 6-7 meeting. Accordingly, the Advisory Committee Management Officer for the Department of Defense, pursuant to 41 CFR 102-3.150(b), waives the 15-calendar day notification requirement.

Purpose of the Meeting: To obtain, review, and evaluate classified information related to the DPB's mission to advise on (a) issues central to strategic DoD planning; (b) policy implications of U.S. force structure and modernization on DoD's ability to execute U.S. defense strategy; (c) U.S. regional defense policies; and (d) other defense policy topics of special interest to the DoD, as determined by the Secretary of Defense, the Deputy Secretary of Defense, or the Under Secretary of Defense for Policy.

Agenda: On September 6, 2022, and September 7, 2022, the DPB will receive classified briefings and hold classified discussions on how China and Russia's potential development of fractional orbital bombardment systems and space-to-ground weapons could impact U.S. deterrence and strategic stability, as well as to consider U.S. response options to the potential development of such capabilities by any adversary, and participate in a classified Pacific-theater tabletop exercise. The DPB will be addressed by the Secretary of Defense, and/or the Deputy Secretary of Defense, and the Undersecretary of Defense for Policy. The DPB will receive classified briefings on (1) Chinese and Russian Space policy doctrine and capabilities from the Office of the Director of National Intelligence, the Central Intelligence Agency; (2) receive a briefing on the space strategic review from the Assistant Secretary of Defense for Space Policy, Dr. John F. Plumb; (3) U.S. space and missile defense capabilities brief from U.S. Space Command and the Missile Defense Agency; (4) receive a State Department briefing on perspectives of strategic stability and arms control from the Office of the Assistant Secretary of State, Arms Control, Verification, and Compliance and (5) hold discussions on the briefings in a classified session with the Secretary, and/or the Deputy Secretary, and the Under Secretary of Defense. Additionally, the DPB will provide advice and recommendations on a classified Pacific-theater based tabletop exercise.

Meeting Accessibility: In accordance with section 10(d) of the FACA and 41 CFR 102-3.155, the DoD has determined that this meeting shall be closed to the public. The Under Secretary of Defense (Policy), in consultation with the DoD FACA Attorney, has determined in writing that this meeting be closed to the public because the discussions fall under the purview of section 552b(c)(1) of the Sunshine Act and are so inextricably intertwined with unclassified material that they cannot reasonably be segregated into separate discussions without disclosing classified material.

Written Statements: In accordance with section 10(a)(3) of the FACA and 41 CFR 102-3.105(j) and 102-3.140(c), the public or interested organizations may submit written statements to the membership of the DPB at any time regarding its mission or in response to the stated agenda of a planned meeting. Written statements should be submitted to the DPB's DFO, which is listed in this notice or can be obtained from the GSA's FACA Database— http://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: August 23, 2022.
Aaron T. Siegel,
Alternate OSD Federal Register Liaison Officer, Department of Defense.

[FR Doc. 2022-18471 Filed 8-25-22; 8:45 am]

BILLING CODE 5001-06-P